DEPARTMENT OF ENERGY

Federal Energy Regulatory Commission

Combined Notice of Filings #1

Take notice that the Commission received the following electric rate filings:

Docket Numbers: ER19-2264-001.

Applicants: Northern Indiana Public Service Company.

Description: Tariff Amendment: Errata to Filing of an Amended CIAC Agreement to be effective 6/27/2019.

Filed Date: 8/1/19.

Accession Number: 20190801-5138.

Comments Due: 5 p.m. ET 8/22/19.

Docket Numbers: ER19-2324-001.

Applicants: Southwest Power Pool, Inc.

Description: Tariff Amendment: 3125R6 Basin Electric Power Cooperative NITSA and NOA Amended Filing to be effective 6/1/2019.

Filed Date: 8/1/19.

Accession Number: 20190801-5073.

Comments Due: 5 p.m. ET 8/22/19.

Docket Numbers: ER19-2511-000.

Applicants: Midcontinent Independent System Operator, Inc., Wolverine Power Supply Cooperative, Inc.

Description: § 205(d) Rate Filing: 2019-07-31_SA 3337 Wolverine-Zeeland Interconnection Facilities Agrmt (Fairview) to be effective 7/19/2019.

Filed Date: 7/31/19.

Accession Number: 20190731-5157.

Comments Due: 5 p.m. ET 8/21/19.

Docket Numbers: ER19-2512-000.

Applicants: North Carolina Electric Membership Corporation, PJM Interconnection, L.L.C.

Description: § 205(d) Rate Filing: PJM and NCEMC submit Revised Service Agreement No. 3347 to be effective 7/1/2019.

Filed Date: 7/31/19.

Accession Number: 20190731-5159.

Comments Due: 5 p.m. ET 8/21/19.

Docket Numbers: ER19-2513-000.

Applicants: Wilton Wind Energy II, LLC.

Description: Baseline eTariff Filing: Wilton Wind Energy II, LLC Application for MBR Authority to be effective 9/30/2019.

Filed Date: 7/31/19.

Accession Number: 20190731-5181.

Comments Due: 5 p.m. ET 8/21/19.

Docket Numbers: ER19-2514-000.

Applicants: PJM Interconnection, L.L.C.

Description: § 205(d) Rate Filing: 2nd Quarter 2019 Revisions to OA, Schedule 12 and RAA, Schedule 17 to be effective 6/30/2019.

Filed Date: 7/31/19.

Accession Number: 20190731-5197.

Comments Due: 5 p.m. ET 8/21/19.

Docket Numbers: ER19-2515-000.

Applicants: UNS Electric, Inc.

Description: § 205(d) Rate Filing: Hilltop Interconnection Agreement to be effective 7/2/2019.

Filed Date: 7/31/19.

Accession Number: 20190731-5201.

Comments Due: 5 p.m. ET 8/21/19.

Docket Numbers: ER19-2516-000.

Applicants: Midcontinent Independent System Operator, Inc.

Description: § 205(d) Rate Filing: 2019-08-01_Revisions to Schedules 7, 8, and 9 to add City of Breckenridge, MN to be effective 10/1/2019.

Filed Date: 8/1/19.

Accession Number: 20190801-5042.

Comments Due: 5 p.m. ET 8/22/19.

Docket Numbers: ER19-2517-000.

Applicants: PJM Interconnection, L.L.C.

Description: § 205(d) Rate Filing: Clean-up to OATT, Schedule 12-Appendix A (JCPL) and (MetEd) to be effective 1/1/2018.

Filed Date: 8/1/19.

Accession Number: 20190801-5052.

Comments Due: 5 p.m. ET 8/22/19.

Docket Numbers: ER19-2518-000.

Applicants: Alabama Power Company.

Description: § 205(d) Rate Filing: Claxton Solar LGIA Filing to be effective 7/22/2019.

Filed Date: 8/1/19.

Accession Number: 20190801-5082.

Comments Due: 5 p.m. ET 8/22/19.

Docket Numbers: ER19-2519-000.

Applicants: Avista Corporation.

Description: Tariff Cancellation: Avista Corp Cancellation of RS 532 Dyn Cap and Energy to be effective 8/2/2018.

Filed Date: 8/1/19.

Accession Number: 20190801-5086.

Comments Due: 5 p.m. ET 8/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2019.
Kimberly D. Bose,
Secretary.

[FR Doc. 2019-16848 Filed 8-6-19; 8:45 am]

BILLING CODE 6717-01-P